SECURITIES AND EXCHANGE COMMISSION

[Release No. IC-28343]

Notice of Applications for Deregistration Under Section 8(f) of the Investment Company Act of 1940

July 25, 2008.

The following is a notice of applications for deregistration under section 8(f) of the Investment Company Act of 1940 for the month of July, 2008. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on August 19, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Legg Mason Partners Investment Funds, Inc. [File No. 811-3275]

Summary: Applicant seeks an order declaring that it has ceased to be an investment company. On April 16, 2007, each series of applicant transferred its assets to a corresponding series of either Legg Mason Partners Equity Trust or Legg Mason Partners Income Trust, based on net asset value. Expenses of approximately $1,016,235 incurred in connection with the reorganization were paid by applicant and Legg Mason, Inc., the parent of applicant's investment adviser.

Filing Date: The application was filed on July 16, 2008.

Applicant's Address: 55 Water St., New York, NY 10041.

Delaware Investments Municipal Trust [File No. 811-6411]

Summary: Applicant seeks an order declaring that it has ceased to be an investment company. On July 13, 2007, applicant transferred its assets to Delaware Tax-Free USA Fund, a series of Delaware Group Tax Free Fund, based on net asset value. Expenses of approximately $77,088 incurred in connection with the reorganization were paid by applicant, the acquiring fund, and applicant's investment adviser, Delaware Management Company.

Filing Date: The application was filed on July 16, 2008.

Applicant's Address: 2005 Market St., Philadelphia, PA 19103-7094.

C Funds Group, Inc. [File No. 811-4246]

Summary: Applicant seeks an order declaring that it has ceased to be an investment company. On April 28, 2008, applicant made a liquidating distribution to its shareholders, based on net asset value. Applicant incurred no expenses in connection with the liquidation. Applicant's custodian holds $55.39 in cash for the one remaining shareholder that applicant has been unable to locate. The custodian will hold the unclaimed assets for the period specified by Florida law, after which time any unclaimed assets will escheat to the state of Florida.

Filing Date: The application was filed on July 17, 2008.

Applicant's Address: 201 Center Rd., Suite Two, Venice, FL 34285.

SEI Insurance Products Trust [File No. 811-9183]

Summary: Applicant seeks an order declaring that it has ceased to be an investment company. On August 29, 2003, applicant made a liquidating distribution to its shareholders based on net asset value. Applicant incurred no expenses in connection with the liquidation. On April 11, 2008, in connection with the request for deregistration, Applicant filed its final Form 24F-2 Annual Notice of Securities Sold.

Filing Dates: The application was filed on March 18, 2004, and an amended application was filed on April 11, 2007.

Applicant's Address: SEI Investments Global Fund Services, 1 Freedom Valley Drive, Oaks, PA 19456.

Genworth Life of New York VL Separate Account 1 [File No. 811-9861]

Summary: Applicant, a unit investment trust, seeks an order declaring that it has ceased to be an investment company. Applicant requests deregistration based on abandonment of registration. At the time of filing, sales of policies had been discontinued and there were less than 25 policy owners. Applicant will continue to operate as an unregistered separate account in reliance on section 3(c)(1) of the Investment Company Act of 1940.

Filing Dates: The application was filed on March 28, 2008, and amended on July 18, 2008 and July 23, 2008.

Applicant's Address: 6610 West Broad Street, Richmond, Virginia, 23230.

For the Commission, by the Division of Investment Management, pursuant to delegated authority.
Florence E. Harmon,
Acting Secretary.

[FR Doc. E8-17504 Filed 7-30-08; 8:45 am]

BILLING CODE 8010-01-P